DEPARTMENT OF COMMERCE

International Trade Administration

[A-570-010, C-570-011]

Crystalline Silicon Photovoltaic Products From the People's Republic of China: Final Results of Changed Circumstances Reviews, and Intent To Revoke the Antidumping and Countervailing Duty Orders, in Part

AGENCY: Enforcement and Compliance, International Trade Administration, Department of Commerce.

SUMMARY: The U.S. Department of Commerce (Commerce) is revoking, in part, the antidumping duty and countervailing duty orders on crystalline silicon photovoltaic products (solar products) from the People's Republic of China (China) with respect to certain off-grid small portable crystalline silicon photovoltaic (CSPV) panels.

DATES: Applicable July 3, 2023.

FOR FURTHER INFORMATION CONTACT: Daniel Alexander, AD/CVD Operations, Office VII, Enforcement and Compliance, International Trade Administration, U.S. Department of Commerce, 1401 Constitution Avenue NW, Washington, DC 20230; telephone: (202) 482-4313.

SUPPLEMENTARY INFORMATION:

Background

On February 18, 2015, Commerce published the antidumping duty and countervailing duty orders on solar products from China.¹ On August 8, 2022, Shenzen Hello Tech Energy Co., Ltd. (Hello Tech), a Chinese producer and exporter of subject merchandise, requested that Commerce conduct changed circumstances reviews (CCR) to find that it is appropriate to revoke the Orders, in part, with respect to certain off-grid small portable CSPV panels, pursuant to section 751(b)(1) of the Tariff Act of 1930, as amended (the Act) and 19 CFR 351.216(b).² Hello Tech's CCR request included a letter from the American Alliance for Solar Manufacturing (the Alliance), a coalition of domestic producers of solar cells, which stated that the Alliance did not oppose Hello Tech's request for changed circumstances reviews and its proposed exclusion language.³ On September 29, 2022, we published the notice of initiation of the requested CCRs.⁴ In the Initiation Notice we invited interested parties to provide comments and/or factual information regarding these CCRs, including comments on industry support and the proposed partial revocation language.⁵ We received no comments or factual information.

¹ See Certain Crystalline Silicon Photovoltaic Products from the People's Republic of China: Antidumping Duty Order; and Amended Final Affirmative Countervailing Duty Determination and Countervailing Duty Order, 80 FR 8592 (February 18, 2015) (AD Order and CVD Order, respectively; collectively, Orders).

² See Hello Tech's Letter, “Certain Crystalline Silicon Photovoltaic Products from the People's Republic of China: Hello Tech's Resubmitted Request for Changed Circumstances Reviews,” dated August 8, 2022 (CCR Request).

³ Id. at Exhibit 7.

⁴ See Crystalline Silicon Photovoltaic Products from the People's Republic of China: Notice of Initiation of Changed Circumstances Reviews, and Consideration of Revocation of the Antidumping and Countervailing Duty Orders in Part, 87 FR 59043 (September 29, 2022) (Initiation Notice).

⁵ Id., 87 FR at 59044.

In light of the Alliance's statement of lack of interest in maintaining the Orders with respect to the off-grid small portable CSPV panels described by Hello Tech, and in the absence of any other interested party comments addressing the issue of domestic industry support, Commerce preliminarily found that producers accounting for substantially all of the domestic production of the products to which the Orders pertain lack interest in the relief provided by those Orders with respect to CSPV panels, and announced its intention to revoke, in part, the Orders with respect to these products.⁶ No interested parties filed comments on the Preliminary Results.

⁶ See Crystalline Silicon Photovoltaic Products from the People's Republic of China: Preliminary Results of Changed Circumstances Reviews, and Intent To Revoke the Antidumping and Countervailing Duty Orders, in Part, 88 FR 14129 (March 7, 2023) (Preliminary Results).

Final Results of Changed Circumstances Reviews and Revocation of the Orders, in Part

In light of Hello Tech's request, and domestic interested parties' lack of interest and non-opposition in the Orders covering the products under consideration, Commerce continues to find, pursuant to sections 751(d)(1) and 782(h)(2) of the Act and 19 CFR 351.222(g), that changed circumstances exist that warrant revocation of the Orders, in part. No interested party opposed this partial revocation. Moreover, no parties provided other information or evidence that calls into question the partial revocation described in Commerce's Preliminary Results.

Thus, Commerce is revoking, in part, the Orders with respect to the following products: Off-grid small portable crystalline silicon photovoltaic panels, with or without a glass cover, with the following characteristics:

(1) a total power output of 200 watts or less per panel;

(2) a maximum surface area of 16,000 cm² per panel;

(3) no built-in inverter;

(4) an integrated handle or a handle attached to the package for ease of carry;

(5) one or more integrated kickstands for easy installation or angle adjustment; and

(6) a wire of not less than 3 meters either permanently connected or attached to the package that terminates in an 8mm diameter male barrel connector.

The scope description below includes this new exclusion.

Scope of the Orders

The merchandise covered by these Orders is modules, laminates and/or panels consisting of crystalline silicon photovoltaic cells, whether or not partially or fully assembled into other products, including building integrated materials. For purposes of these Orders, subject merchandise includes modules, laminates and/or panels assembled in China consisting of crystalline silicon photovoltaic cells produced in a customs territory other than China.

Subject merchandise includes modules, laminates and/or panels assembled in China consisting of crystalline silicon photovoltaic cells of thickness equal to or greater than 20 micrometers, having a p/n junction formed by any means, whether or not the cell has undergone other processing, including, but not limited to, cleaning, etching, coating, and/or addition of addition of materials (including, but not limited to, metallization and conductor patterns) to collect and forward the electricity that is generated by the cell.

Excluded from the scope of the Orders are thin film photovoltaic products produced from amorphous silicon (a-Si), cadmium telluride (CdTe), or copper indium gallium selenide (CIGS).

Also excluded from the scope of these Orders are modules, laminates and/or panels assembled in China, consisting of crystalline silicon photovoltaic cells, not exceeding 10,000 mm2 in surface area, that are permanently integrated into a consumer good whose function is other than power generation and that consumes the electricity generated by the integrated crystalline silicon photovoltaic cells. Where more than one module, laminate and/or panel is permanently integrated into a consumer good, the surface area for purposes of this exclusion shall be the total combined surface area of all modules, laminates and/or panels that are integrated into the consumer good.

Further, also excluded from the scope of these Orders are any products covered by the existing antidumping and countervailing duty orders on crystalline silicon photovoltaic cells, whether or not assembled into modules, laminates and/or panels, from China.

Additionally, excluded from the scope of these Orders are solar panels that are: (1) less than 300,000 mm2 in surface area; (2) less than 27.1 watts in power; (3) coated across their entire surface with a polyurethane doming resin; and (4) joined to a battery charging and maintaining unit (which is an acrylonitrile butadiene styrene (ABS) box that incorporates a light emitting diode (LED)) by coated wires that include a connector to permit the incorporation of an extension cable. The battery charging and maintaining unit utilizes high-frequency triangular pulse waveforms designed to maintain and extend the life of batteries through the reduction of lead sulfate crystals. The above-described battery charging and maintaining unit is currently available under the registered trademark “SolarPulse.”

Also excluded from the scope of these Orders are off-grid crystalline silicon photovoltaic panels without a glass cover with the following characteristics: (1) total power output of 500 watts or less per panel; (2) maximum surface area of 8,000 cm2 per panel; (3) unit does not include a built-in inverter; (4) unit has visible parallel grid collector metallic wire lines every 2-40 millimeters across each solar panel (depending on model); (5) solar cells are encased in laminated frosted PET material without stitching; (6) the panel is encased in polyester fabric with visible stitching which includes a Velcro-type storage pocket and unit closure, or encased within a Neoprene clamshell (depending on model); and (7) includes LED indicator.

Additionally excluded from the scope of these Orders are off-grid small portable crystalline silicon photovoltaic panels, with or without a glass cover, with the following characteristics: (1) a total power output of 200 watts or less per panel; (2) a maximum surface area of 16,000 cm2 per panel; (3) no built-in inverter; (4) an integrated handle or a handle attached to the package for ease of carry; (5) one or more integrated kickstands for easy installation or angle adjustment; and (6) a wire of not less than 3 meters either permanently connected or attached to the package that terminates in an 8mm diameter male barrel connector.

Merchandise covered by these orders is currently classified in the Harmonized Tariff Schedule of the United States (HTSUS) under subheadings 8501.61.0000, 8507.20.8030, 8507.20.8040, 8507.20.8060, 8507.20.8090, 8541.40.6015, 8541.40.6020, 8541.40.6030, 8541.40.6035 and 8501.31.8000. These HTSUS subheadings are provided for convenience and customs purposes; the written description of the scope of these Orders is dispositive.⁷

⁷ See Orders.

Application of the Final Results of These Reviews

Hello Tech requested that Commerce apply the final results of these reviews to “all unliquidated entries of the merchandise covered by the revocation that are not covered by the final results of an administrative review or automatic liquidation instruction.” ⁸ Section 751(d)(3) of the Act provides that “{a} determination under this section to revoke an order . . . shall apply with respect to unliquidated entries of the subject merchandise which are entered, or withdrawn from warehouse, for consumption on or after the date determined by the administering authority.” Commerce's general practice is to instruct U.S. Customs and Border Protection (CBP) to liquidate without regard to antidumping and countervailing duties, and to refund any estimated antidumping and countervailing duties on, all unliquidated entries of the merchandise covered by a revocation that are not covered by the final results of an administrative review or automatic liquidation.⁹

⁸ See CCR Request at 21.

⁹ See, e.g., Certain Pasta from Italy: Final Results of Countervailing Duty Changed Circumstances Review and Revocation, In Part, 76 FR 27634 (May 12, 2011); Stainless Steel Bar from the United Kingdom: Notice of Final Results of Changed Circumstances Review and Revocation of Order, in Part, 72 FR 65706 (November 23, 2007); Notice of Final Results of Antidumping Duty Changed Circumstances Review and Revocation of Order In Part: Certain Corrosion-Resistant Carbon Steel Flat Products from Germany, 71 FR 66163 (November 13, 2006); Notice of Final Results of Antidumping Duty Changed Circumstances Reviews and Revocation of Orders in Part: Certain Corrosion-Resistant Carbon Steel Flat Products from Canada and Germany, 71 FR 14498 (March 22, 2006); and Notice of Final Results of Antidumping Duty Changed Circumstances Review, and Determination to Revoke Order in Part: Certain Cased Pencils from the People's Republic of China, 68 FR 62428 (November 4, 2003).

Consistent with this practice, we are applying the final results of these CCRs to all unliquidated entries of the merchandise covered by the revocations which have been entered, or withdrawn from warehouse, for consumption on or after February 1, 2021 for the AD Order and January 1, 2021 for the CVD Order. These are the beginning dates of the earliest periods of review not covered by the final results of an administrative review or automatic liquidation instructions (i.e., February 1, 2021, through January 31, 2022 for the AD Order and January 1, 2021, through December 31, 2021 for the CVD Order).

Instructions to CBP

Because we determine that there are changed circumstances that warrant the revocation of the Orders, in part, we will instruct CBP to liquidate without regard to antidumping and countervailing duties, and to refund any estimated antidumping and countervailing duties on, all unliquidated entries of the merchandise covered by this partial revocation on or after February 1, 2021 for the AD Order and January 1, 2021 for the CVD Order.

Commerce intends to issue instructions to CBP no earlier than 35 days after the date of publication of these final results of CCRs in the Federal Register. If a timely summons is filed at the U.S. Court of International Trade, the instructions will direct CBP not to liquidate relevant entries until the time for parties to file a request for a statutory injunction has expired (i.e., within 90 days of publication).

Administrative Protective Order

This notice serves as a reminder to parties subject to an administrative protective order (APO) of their responsibility concerning the disposition of proprietary information disclosed under an APO in accordance with 19 CFR 351.305(a)(3). Timely written notification of the return/destruction of APO materials or conversion to a judicial protective order is hereby requested. Failure to comply with the regulations and terms of an APO is a sanctionable violation.

Notification to Interested Parties

We are issuing and publishing these final results of CCRs in accordance with sections 751(b) and 777(i) of the Act, and 19 CFR 351.216, 19 CFR 351.221(c)(3), and 19 CFR 351.222(g).

Dated: June 22, 2023.
James Maeder,
Deputy Assistant Secretary for Antidumping and Countervailing Duty Operations.

[FR Doc. 2023-14027 Filed 6-30-23; 8:45 am]

BILLING CODE 3510-DS-P